NUCLEAR REGULATORY COMMISSION

[Docket No. 030-33261]

Notice of Availability of Environmental Assessment and Finding of No Significant Impact for License Amendment Request to Byproduct Materials License 37-30062-01 for the Defense Logistics Agency/Defense Distribution Center, New Cumberland, PA

AGENCY: Nuclear Regulatory Commission.

ACTION: Issuance of Environmental Assessment and Finding of No Significant Impact for License Amendment.

FOR FURTHER INFORMATION CONTACT: Thomas Thompson, Senior Health Physicist, Commercial and R&D Branch, Division of Nuclear Materials Safety, Region I, 475 Allendale Road, King of Prussia, PA 19406. Telephone: (610) 337-5303; fax number: (610) 337-5269; e-mail: TKT@nrc.gov.

SUPPLEMENTARY INFORMATION:

I. Introduction

The U.S. Nuclear Regulatory Commission (NRC) is considering the issuance of a license renewal to Byproduct Materials License No. 37-30062-01. This license is held by the Defense Logistics Agency/Defense Distribution Center (Licensee), located in New Cumberland, Pennsylvania. As part of its license renewal, the Licensee has requested an exemption from the requirement in 10 CFR 30.32(g) to list sealed sources by their manufacturer and model number 4 as registered under the provisions of 10 CFR 32.210. The Licensee requested this exemption in a letter dated October 26, 2005. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The license renewal, including the approval of the exemption request, will be issued to the Licensee following the publication of this FONSI and EA in the Federal Register.

II. Environmental Assessment

Identification of Proposed Action

The proposed action would renew License No. 37-30062-01, including approval of the Licensee's request for exemption submitted on October 26, 2005. License No. 37-30062-01 was issued on January 27, 1995, pursuant to 10 CFR Parts 30, 40, and 70, and has been amended periodically since that time. This license authorized the Licensee for the receipt, storage and packaging of serviceable Department of Defense commodity items containing licensed material and distribution of these items to any Department of Defense persons authorized to receive the licensed material, pursuant to the items and conditions of specific licenses issued by the U.S. Nuclear Regulatory Commission; and for use in calibration and verification of the licensee's instruments.

On December 21, 2004, the Licensee submitted its renewal application for License No. 37-30062-01. In a letter dated June 27, 2005, submitted in response to a Request for Additional Information from the NRC dated May 20, 2005, requesting that the Licensee identify all sealed sources by radionuclide, manufacturer, and model number, the Licensee described its need for flexibility in its authorization, stating that the listing of broad categories of materials on the license was intentional to allow the Licensee the flexibility to receive, store and transfer all items authorized to either of the branches of service by their NRC License. The Licensee also stated that maintaining a current list of all sealed sources is contingent on what items the military services wish to possess and is subject to change independent from the Licensee's authorization. The Licensee stated that ensuring that each sealed source is registered as an approved sealed source or device by the NRC or an Agreement State is the responsibility of each of the military services. In its follow-up letter dated October 26, 2005, the Licensee explicitly requested an exemption from the requirement in 10 CFR 30.32(g) to list sealed sources by their manufacturer and model number as registered under the provisions of 10 CFR 32.210. In requesting this exemption, the Licensee stated the use of the radioactive materials authorized under the License is in the context of distribution operations. The initial procurement, storage period and distribution of these sources are at the direction of the item manager assigned by the specific military service. The procuring service is responsible for ensuring the radioactive sources used in items of military supply are properly registered with the NRC or an appropriate Agreement State. As such, each of the military services has a variety of NRC licenses that authorize the use and possession of each item that could be processed through the Licensee. The Licensee stated further that the requested exemption is especially important given increased operational tempo that the current war on terrorism demands.

Need for the Proposed Action

This exemption is needed to authorize the Licensee to continue to receive, store, and distribute these sources and devices needed by the military services.

Technical Analysis of the Proposed Action

10 CFR 30.11(a) states that the Commission may grant such exemptions from the requirements of the regulations as it determines are authorized by law and will not endanger life or property or the common defense and security and are otherwise in the public interest. The NRC staff has analyzed the Licensee's request to be authorized to receive and take possession of sealed sources and devices which have not been registered with the NRC under 10 CFR 32.210 or with an Agreement State. The NRC staff considered that the Licensee is qualified by sufficient training and experience and has sufficient facilities and equipment to handle these sources and devices. Furthermore, NRC inspections have evaluated the Licensee's performance and determined that the Licensee has safely handled these unregistered sources for many years. Accordingly, the NRC staff has concluded that granting this exemption is authorized by law, will not endanger life or property or the common defense and security, and is in the public interest.

Environmental Impacts of the Proposed Action

The proposed action is largely administrative in nature. Approving this exemption will have no environmental impact.

Environmental Impacts of the Alternatives to the Proposed Action

Due to the largely administrative nature of the proposed action, its environmental impacts are small. Additionally, denying the exemption request would result in no change in current environmental impacts. The environmental impacts of the proposed action and the no-action alternative are therefore similar, and the no-action alternative is accordingly not further considered.

Conclusion

The NRC staff has concluded that the proposed action will not significantly impact the quality of the human environment; the NRC staff concludes that the proposed action is the preferred alternative.

Agencies and Persons Consulted

The NRC staff has determined that the proposed action is of a procedural nature, and will not affect listed species or critical habitat. Therefore, no further consultation is required under section 7 of the Endangered Species Act. The NRC staff has also determined that the proposed action is not the type of activity that has the potential to cause effects on historic properties. Therefore, no further consultation is required under section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for exemption and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. Licensee letter dated June 27, 2005 [ML051870315].

2. Licensee letter dated October 26, 2005 [ML053010281].

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at Region I, 475 Allendale Road, King of Prussia, PA this 8th day of September 2008.
For the Nuclear Regulatory Commission.
James P. Dwyer,
Chief, Commercial and R&D Branch, Division of Nuclear Materials Safety, Region I.

[FR Doc. E8-21803 Filed 9-17-08; 8:45 am]

BILLING CODE 7590-01-P